FEDERAL MARITIME COMMISSION

[Docket No. 26-03]

Gator Fabrication Technology, LLC, Complainant v. Flador Global Logistics a/k/a Flador Global Uluslararasi Taşimacilik Loj.Diştic Ltd.Şti and NTG Air & Ocean, LLC, Respondents; Notice of Filing of Complaint and Assignment

Notice is given that a complaint has been filed with the Federal Maritime Commission (the “Commission”) by Gator Fabrication Technology, LLC (the “Complainant”) against Flador Global Logistics a/k/a Flador Global Uluslararasi Taşimacilik Loj.Diştic Ltd.Şti and NTG Air & Ocean, LLC (collectively, the “Respondents”). Complainant states that the Commission has jurisdiction over the complaint pursuant to the Shipping Act, 46 U.S.C. 41301, and over Respondents as having “acted as ocean transportation intermediaries or agents of ocean transportation intermediaries.”

Complainant is a limited liability company and shipper, with its principal place of business in Port Orange, Florida.

Complainant identifies Respondent Flador Global Logistics a/k/a Flador Global Uluslararasi Taşimacilik Loj.Diştic Ltd.Şti as having acted as an ocean transportation intermediary and non-vessel-operating common carrier with a place of business in İzmir, Türkiye.

Complainant identifies Respondent NTG Air & Ocean, LLC as a licensed ocean transportation intermediary with a place of business in Franklin Square, New York.

Complainant alleges that Respondents violated 46 U.S.C. 41102(c) and (d); 41104(a)(10) and (14); and 46 CFR 545.5. Complainant alleges these violations arose from Respondents withholding cargo, imposing detention charges, and asserting a maritime lien in order to coerce payment on an unrelated shipment, and other acts and omissions of Respondents.

An answer to the complaint must be filed with the Commission within 25 days after the date of service.

The full text of the complaint can be found in the Commission's electronic Reading Room at https://www2.fmc.gov/readingroom/proceeding/26-03/. This proceeding has been assigned to the Office of Administrative Law Judges. The initial decision of the presiding judge shall be issued by February 12, 2027, and the final decision of the Commission shall be issued by August 26, 2027.

(Authority: 46 U.S.C. 41301; 46 CFR 502.61(c))

Served: February 12, 2026.
David Eng,
Secretary.

[FR Doc. 2026-03076 Filed 2-13-26; 8:45 am]

BILLING CODE 6730-02-P